DEPARTMENT OF TRANSPORTATION

Federal Highway Administration

Notice of Final Federal Agency Actions on Proposed Highway and Bridge in the Cities of Cincinnati, Ohio, and Covington, Kentucky

AGENCY: Federal Highway Administration (FHWA), DOT.

ACTION: Notice; correction.

SUMMARY: This notice corrects an error in the FHWA notice published on November 2, 2012, at 77 FR 66215. That notice provided an incorrect reference to a statute of limitations timeframe, and an incorrect date.

DATES: This notice is effective November 29, 2012.

FOR FURTHER INFORMATION CONTACT: Noel F. Mehlo Jr., Environmental Program Manager, Federal Highway Administration, 200 North High Street, Room 328, Columbus, Ohio 43215, Telephone: (614) 280-6896; or Stefan Spinosa, PE, Ohio Department of Transportation (ODOT), 505 South State Route 741, Lebanon, Ohio 45036, Telephone: (513) 933-6639.

SUPPLEMENTARY INFORMATION: On November 2, 2012, at 77 FR 66215, the FHWA published a notice regarding actions taken by the FHWA, United States Army Corps of Engineers (USACE), and other Federal agencies that are final within the meaning of 23 U.S.C. 139(l)(1). The actions relate to a proposed highway project to improve Interstate 71 and Interstate 75, including interchanges and a new bridge over the Ohio River in the City of Cincinnati, Hamilton County, State of Ohio and the City of Covington, Kenton County, Commonwealth of Kentucky.

The original notice indicated that claims seeking judicial review of the Federal agency actions on the highway project will be barred unless the claim is filed on or before May 1, 2013, which represents 180 days after publication in the Federal Register. However, the recently enacted “Moving Ahead for Progress in the 21st Century Act” (MAP-21) (Sec. 1308, Pub. L. 112-141, 126 STAT. 405), amended 23 U.S.C. 139(l)(1) as of October 1, 2012, to provide that any claim seeking judicial review of the Federal agency actions on a highway project is barred unless the claim is filed 150 days after publication of a notice in the Federal Register. As such, any claim seeking judicial review of the above referenced highway project will be barred unless the claim is filed on or before April 1, 2013. Also, if the Federal law that authorizes judicial review of a claim provides a time period of less than 150 days for filing such a claim, then that shorter time period still applies.

Authority: 23 U.S.C. 139(l); Sec. 1308, Pub. L. 112-141, 126 Stat. 405.

Issued on: November 21, 2012.
Robert L. Griffith,
Assistant Division Administrator, Columbus, Ohio.

[FR Doc. 2012-28912 Filed 11-28-12; 8:45 am]

BILLING CODE 4910-22-P